DEPARTMENT OF AGRICULTURE

Forest Service

RIN 0596-AD20

Extension of Comment Period for the Proposed Directive on Commercial Filming in Wilderness, Special Uses Administration

AGENCY: Forest Service, USDA.

ACTION: Notice of proposed directive; extension of comment period.

SUMMARY: The Forest Service published a notice in the Federal Register on September 4, 2014, initiating a 60-day comment period on the Proposed Directive for Commercial Filming in Wilderness; Special Uses, Forest Service Handbook 2709.11, Chapter 40. The closing date of the original notice is scheduled for November 3, 2014. The Agency is extending the comment period for an additional 30 days from the previous closing date.

DATES: Comments must be received by December 3, 2014 .

ADDRESSES: Submit comments electronically by following the instructions at the federal eRulemaking portal at http://www.regulations.gov or submit comments via fax to 703-605-5131 or 703-605-5106. Please identify faxed comments by including “Commercial Filming in Wilderness” on the cover sheet or first page. Comments may also be submitted via mail to Commercial Filming in Wilderness, USDA, Forest Service, Attn: Wilderness & Wild and Scenic Rivers (WWSR), 201 14th Street SW., Mailstop Code: 1124, Washington, DC 20250-1124.

Email comments may be sent to: reply_lands@fs.fed.us. If comments are submitted electronically, duplicate comments should not be sent by mail. Hand-delivered comments will not be accepted and receipt of comments cannot be confirmed. Please restrict comments to issues pertinent to the proposed directive, explain the reasons for any recommended changes, and, where possible, reference the specific section and wording being addressed.

All comments, including names and addresses when provided, will be placed in the record and be made available for public inspection and copying. The public may inspect the comments received at the USDA Forest Service Headquarters, Sidney R. Yates Federal Building, 201 14th Street SW., Washington, DC, in the Office of the Director, WWSR, 5th Floor South, during normal business hours. Visitors are encouraged to call ahead at 202-644-4862 to facilitate entry to the building.

FOR FURTHER INFORMATION CONTACT: Elwood York, WWSR, at 202-649-1727.

Individuals who use telecommunication devices for the deaf (TDD) may call the Federal Information Relay Service (FIRS) at 1-800-877-8339 between 8:00 a.m. and 8:00 p.m., Eastern Standard Time, Monday through Friday.

SUPPLEMENTARY INFORMATION: The Forest Service proposed directive on Commercial Filming in Wilderness was drafted in a good faith effort to ensure the fullest protection of America's wild places. To ensure that all members of the public who have an interest in wilderness access have the opportunity to be heard, we are extending the comment period on the proposed directive to December 3, 2014. In the coming weeks the Forest Service will be setting up public meetings to answer questions from the public, including journalists and members of wilderness groups. These meetings are intended to gather further feedback on the proposal and to help us shape the final directive.

Dated: September 25, 2014.
Gregory C. Smith,
Acting Associate Deputy Chief, National Forest Systems.

[FR Doc. 2014-23303 Filed 9-30-14; 8:45 am]

BILLING CODE 3411-15-P